DEPARTMENT OF COMMERCE

National Oceanic and Atmospheric Administration

RIN 0648-XA935

Fisheries of the Caribbean, Gulf of Mexico, and South Atlantic; Coral and Coral Reefs Off the Southern Atlantic States; Exempted Fishing Permit; Correction

AGENCY: National Marine Fisheries Service (NMFS), National Oceanic and Atmospheric Administration (NOAA), Commerce.

ACTION: Notice of receipt of an application for an exempted fishing permit; correction; request for comments.

SUMMARY: This document contains a correction to a notice of receipt of an application for an exempted fishing permit (EFP) published on April 30, 2012, regarding the South Carolina Aquarium's application to collect display specimens. The notice stated that the EFP would authorize the South Carolina Aquarium to collect, with certain conditions, various species of reef fish, crabs, and lobsters in Federal waters off South Carolina and North Carolina. Within the preamble, spadefish was inadvertently omitted from the list of species proposed to be collected; as such, the total number of species to be collected also needs to be corrected. Additionally, the notice stated that the total number of species would be collected over a period of 5 years; however, the notice for the EFP should state that the total number of species would be collected annually for 5 years. This rule corrects those errors. Due to these corrections, NMFS is extending the comment period until June 15, 2012.

DATES: Written comments must be received no later than 5 p.m., e.t., on June 15, 2012.

ADDRESSES: You may submit comments on the application by either of the following methods:

• Email: Kate.Michie@noaa.gov; include in the subject line of the email comment the following document identifier: South Carolina Aquarium EFP.

• Mail: Kate Michie, Southeast Regional Office, NMFS, 263 13th Avenue South, St. Petersburg, FL 33701.

The application and related documents are available for review upon written request to any of the above addresses.

FOR FURTHER INFORMATION CONTACT: Anne Marie Eich, telephone: 727-824-5305, email: AnneMarie.Eich@noaa.gov.

Correction

In notice document FR Doc. 2012-10372, published in the Federal Register issue of April 30, 2012 (77 FR 83), make the following corrections:

1. On page 25407, column 3:

a. Line 10, after the word “to” add the word “annually”.

b. Line 11, remove the word “1,615” and add, in its place, “1,665”.

c. Line 17, after the word “the” insert the word “annual”.

d. Line 29, after the words “little tunny (25);” add the word “spadefish (50);”.

Authority: 16 U.S.C. 1801 et seq.

Dated: May 29, 2012.
Carrie D. Selberg,
Acting Deputy Director, Office of Sustainable Fisheries, National Marine Fisheries Service.

[FR Doc. 2012-13388 Filed 5-31-12; 8:45 am]

BILLING CODE 3510-22-P